DEPARTMENT OF ENERGY

Federal Energy Regulatory Commission

[Docket No. CP00-458-000]

El Paso Natural Gas Company; Notice of Application

September 18, 2000.

Take notice that on September 12, 2000, El Paso Natural Gas Company (El Paso), whose mailing address is Post Office Box 1492, El Paso, Texas, 79978, filed an application at Docket No. CP00-458-000, pursuant to Section 7(b) of the Natural Gas Act (NGA), for permission and approval to abandon by transfer to its affiliate, El Paso Field Services Company, certain compression facilities in San Juan County, New Mexico, all as more fully set forth in the application which is on file with the Commission and open to public inspection. This filing may be viewed on the web at http://www.ferc.us/online/rims.htm (call 202-208-2222).

El Paso states that on August 18, 1999, Williams Field Services Group, Inc. (Williams) filed a complaint in Docket No. RP99-471-000 alleging that compression facilities at El Paso's Blanco Compressor Station in San Juan County, New Mexico were providing a nonjurisdictional gathering service and were improperly classified as transmission facilities. El Paso states that the Blanco Station includes three distinct sets of compressors: the “A”, “C”, and “D” plants totaling approximately 91,010 horsepower. It is indicated that by order issued on November 10, 1999, the Commission found that the “A” plant was properly functionalized as transmission, but that the “C” and “D” plants should be functionalized as gathering. El Paso states that the Commission denied all requests by order issued April 25, 2000, and counseled El Paso to file for an application to abandon the two plants.

El Paso is filing this application in recognition of the Commission's suggestion in the April 25, 2000, order. In support of why this abandonment is in the public convenience and necessity, El Paso states that the abandonment of the Blanco “C” and “D” plants by transfer to its affiliate will provide for a smooth, seamless transition of services without any interruption of service or rate stacking, which would occur if the facilities were transferred to a third party. El Paso further asserts that the abandonment is consistent with the previously-approved El Paso spin-down of facilities to Field Services. Also, El Paso indicates that it is its understanding that, upon transfer of the two compressor units, Field Services will continue to deliver, at a new custody meter transfer point downstream of the “C” and “D” plant facilities, the same volumes of natural gas at the required mainline pressures as before the abandonment.

Any questions regarding this application should be directed to Mr. A.W. Clark at (915) 496-2600.

Any person desiring to be heard or to make protest with reference to said application should on or before October 10, 2000, file with the Federal Energy Regulatory Commission, 888 First Street, N.E., Washington, D.C. 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for El Paso to appear or be represented at the hearing.

David P. Boerers,
Secretary.

[FR Doc. 00-24354 Filed 9-21-00; 8:45 am]

BILLING CODE 6717-01-M